DEPARTMENT OF HEALTH AND HUMAN SERVICES

Administration for Children and Families

Proposed Information Collection Activity; Comment Request

Proposed Project

Title: Early Head Start Family and Child Experiences Survey (Baby FACES).

OMB No. New Collection

Description: The Administration for Children and Families (ACF), U.S. Department of Health and Human Services, is conducting a descriptive study of Early Head Start Programs (Early Head Start Family and Child Experiences Survey, or Baby FACES). Baby FACES is a longitudinal study of a nationally representative sample of programs and children in two cohorts (perinatal and age 1) that will collect information about programs, services, families, and children. Data for Baby FACES will be annually collected through interviews with parents, teachers, home visitors, and program directors/managers, as well as direct child assessments, videotaped parent child interactions, and observations of the home environment when children are two and three years old. Data collection will also include quality observations of child care center classrooms and home visits conducted by program staff.

Data will be collected on a sample of approximately 2,000 children and families selected at random from 90 Early Head Start programs. Over the life of the project, Baby FACES will involve four waves of data collection, ending when the second cohort of children (perinatal cohort) reaches 36 months of age. This information collection request covers the first three years of data collection. All waves of data collection will acquire program level information through an hour-long program director interview. Additionally, staff from all programs will complete a simple service tracking form every week for each child in the sample for all years to determine what services are being delivered to families.

Respondents: Parents of EHS Children, EHS Children, EHS Teachers, Home Visitors, and Program Directors/Managers.

Annual Burden Estimates
Instrument | Annual number of respondents | Number of responses per respondent | Average burden hour per response | Estimated annual burden hours
Parent Interview | 1,715 | 1 | 1 | 1,715
Program Director/Manager Interview | 90 | 1 | 1 | 90
Child Care Provider Interview | 180 | 1 | 1 | 180
Home Visitor Interview | 270 | 1 | 1 | 270
Teacher/Home Visitor Child Rating | 450 | 2.6 | 0.25 | 293
Family Service Tracking | 450 | 136 | 0.1666 | 10,200
Child Direct Assessment | 907 | 1 | 1 | 907
Parent-Child Interaction | 907 | 1 | 0.25 | 227
Total Burden Hours |  |  |  | 12,975

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. E-mail address: OPREinfocollection@acf.hhs.gov. All requests should be identified by the title of the information collection.

The Department specifically requests comments on (a) Whether the proposed collection of information is necessary for the proper performance of the functions of the agency, including whether the information will have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 11, 2008.
Brendan C. Kelly,
OPRE Reports Clearance Officer.

[FR Doc. E8-13658 Filed 6-17-08; 8:45 am]

BILLING CODE 4184-01-M